DEPARTMENT OF HEALTH AND HUMAN SERVICES

Administration for Children and Families

Administration on Children, Youth and Families; Notice ACYF/HS-2003-01A

AGENCY: Administration for Children and Families (ACF), Administration on Children, Youth, and Families (ACYF).

ACTION: Request for public comments and statements of interest on the proposed merger of Head Start Grantees in Rhode Island.

SUMMARY: This is a correction of the original notice, published on December 31, 2003, of the intent to notify interested parties of the merger of two Head Start programs in Rhode Island.

EFFECTIVE DATE: March 5, 2004.

FOR FURTHER INFORMATION CONTACT: Renee Perthius, (202) 260-1721.

SUPPLEMENTARY INFORMATION: Self Help, Inc., and New Visions for Newport County, Inc., both in Rhode Island, are proposing to merge their federally-funded Head Start programs. This proposed merger is expected to bring about a more cost-effective and efficient service delivery to children and their families. The Head Start Bureau of the Administration for Children and Families (ACF), within the United States Department of Health and Human Services, has this proposal under consideration and is currently evaluating its effect on Head Start services for children and families in the community. Under the proposed merger, Self Help, Inc., would be absorbed by New Visions for Newport County, Inc. New Visions for Newport County, Inc., operating under the new name of East Bay Community Action Program, would provide Head Start services for the community it now serves, as well as the community now served by Self Help, Inc.

Mergers of local Head Start grantees usually require ACF to offer an open competition in the specified service area of the grantee being absorbed. While this request for a merger, without a competitive review process, is under consideration, public comments are being solicited. Additionally, this notice also serves to encourage and welcome statements of interest from any local public agency, local public school system, local non-profit agency or local for-profit organization, or local faith-based organization that would want to compete for funding to provide Head Start services in the area now served by Self Help, Inc.

New Visions for Newport County, Inc., also receives funding to conduct an Early Head Start program which, except for the name change to East Bay Community Action Program, is not a part of a proposed merger. New Visions for Newport County, Inc., renamed East Bay Community Action Program, will continue to provide Early Head Start services in the community.

The original notice notifying interested parties of the proposed merger of two Rhode Island Head Start programs was published in the Federal Register on December 31, 2003. That notice included the incorrect statement that Self Help, Inc., is an Early Head Start grantee. This notice is being published to correct that statement. New Visions for Newport County is the Early Head Start grantee in the community and has previously contracted-out operation of a portion of the program to Self-Help, Inc. The proposed merger will not affect New Visions' funding under the Early Head Start program.

Please mail or fax your statements of support or objection to this proposed merger and grant transfer, as well as any request for consideration by March 5, 2004, to Michelle Hastings; Pal-Tech, Inc.; 1000 Wilson Blvd., Suite 1000; Arlington, VA 22209; 1-800-458-7699; 703-243-0496 (fax).

Dated: February 12, 2004.
Joan E. Ohl,
Commissioner, Administration for Children, Youth, and Families.

[FR Doc. 04-3604 Filed 2-18-04; 8:45 am]

BILLING CODE 4184-01-M